DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Basic Requirements for Special Exemption Permits and Authorizations to Take, Import, and Export Marine Mammals, Threatened and Endangered Species, and for Maintaining a Captive Marine Mammal Inventory under the Marine Mammal Protection, the Fur Seal, and the Endangered Species Acts.

OMB Control Number: 0648-0084.

Form Number(s): NA.

Type of Request: Regular submission (revision and extension of a current information collection).

Number of Respondents: 536.

Average Hours per Response: Permit applications: scientific research/enhancement (SR/EN), 50 hours; public display, 30; photograph and general authorization, 10 hours each; major permit amendments, 35; minor amendments, 3; reports: SR/EN, 12; general authorization, 8; all others, 2; recordkeeping for each permit, 2; documentation of marine mammal transport/transfer, 2 hours.

Burden Hours: 7,730.

Needs and Uses: This request is for a revision and extension of a currently approved information collection.

The Marine Mammal Protection Act (16 U.S.C. 1361 et seq.; MMPA), Fur Seal Act (16 U.S.C. 1151 et seq.; FSA), and Endangered Species Act (16 U.S.C. 1531 et seq.; ESA) prohibit certain activities affecting marine mammals and endangered and threatened species, with exceptions. Pursuant to section 104 of the MMPA and Section 10 of the ESA, special exception permits can be obtained for scientific research and enhancing the survival or recovery of a species or stock of marine mammals or threatened or endangered species. Section 104 of the MMPA also includes permits for commercial and educational photography of marine mammals; import and capture of marine mammals for public display; and, Letters of Confirmation under the General Authorization for scientific research that involves minimal disturbance to marine mammals. This information collection applies to protected species for which NMFS is responsible, including the marine mammal species of cetaceans (whales, dolphins and porpoises), pinnipeds (seals and sea lions), sea turtles (in water), white abalone, black abalone, smalltooth sawfish, largetooth sawfish (imports only), shortnose sturgeon, and Atlantic sturgeon. The information collection may be used for proposed listed species (e.g., corals).

This information collection is being revised to include submission of Letters of Intent under the General Authorization via the existing online application system, Authorizations and Permits for Protected Species (APPS), in addition to the current usage for SR/EN applications. This revision also includes adding Atlantic sturgeon and largetooth sawfish.

Affected Public: Business or other for-profit organizations; not-for-profit institutions.

Frequency: Annually and on occasion.

Respondent's Obligation: Required to retain or obtain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: June 20, 2013.
Gwellnar Banks,
Management Analyst, Office of the Chief Information Officer.

[FR Doc. 2013-15273 Filed 6-25-13; 8:45 am]

BILLING CODE 3510-22-P